POSTAL REGULATORY COMMISSION

[Docket Nos. CP2022-134; MC2024-627 and CP2024-636; MC2024-629 and CP2024-638; MC2024-630 and CP2024-639; MC2024-632 and CP2024-641; MC2024-633 and CP2024-642; MC2024-634 and CP2024-643; MC2024-636 and CP2024-645; MC2024-637 and CP2024-646; MC2024-638 and CP2024-647; MC2024-639 and CP2024-648; MC2024-640 and CP2024-649; MC2024-641 and CP2024-650; MC2024-642 and CP2024-651; MC2024-643 and CP2024-652; MC2024-644 and CP2024-653; MC2024-645 and CP2024-654; MC2024-646 and CP2024-655; MC2024-647 and CP2024-656; MC2024-648 and CP2024-657]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: September 17, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Docketed Proceeding(s)

I. Introduction

The Commission gives notice that the Postal Service filed request(s) for the Commission to consider matters related to negotiated service agreement(s). The request(s) may propose the addition or removal of a negotiated service agreement from the Market Dominant or the Competitive product list, or the modification of an existing product currently appearing on the Market Dominant or the Competitive product list.

Section II identifies the docket number(s) associated with each Postal Service request, the title of each Postal Service request, the request's acceptance date, and the authority cited by the Postal Service for each request. For each request, the Commission appoints an officer of the Commission to represent the interests of the general public in the proceeding, pursuant to 39 U.S.C. 505 (Public Representative). Section II also establishes comment deadline(s) pertaining to each request.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

The Commission invites comments on whether the Postal Service's request(s) in the captioned docket(s) are consistent with the policies of title 39. For request(s) that the Postal Service states concern Market Dominant product(s), applicable statutory and regulatory requirements include 39 U.S.C. 3622, 39 U.S.C. 3642, 39 CFR part 3030, and 39 CFR part 3040, subpart B. For request(s) that the Postal Service states concern Competitive product(s), applicable statutory and regulatory requirements include 39 U.S.C. 3632, 39 U.S.C. 3633, 39 U.S.C. 3642, 39 CFR part 3035, and 39 CFR part 3040, subpart B. Comment deadline(s) for each request appear in section II.

II. Docketed Proceeding(s)

1. Docket No(s).: CP2022-134; Filing Title: USPS Notice of Amendment to Priority Mail Express, Priority Mail, First-Class Package Service & Parcel Select Contract 42, Filed Under Seal; Filing Acceptance Date: September 9, 2024; Filing Authority: 39 CFR 3035.105; Public Representative: Almaroof Agoro; Comments Due: September 17, 2024.

2. Docket No(s).: MC2024-627 and CP2024-636; Filing Title: USPS Request to Add Priority Mail Express, Priority Mail & USPS Ground Advantage Contract 303 to Competitive Product List and Notice of Filing Materials Under Seal; Filing Acceptance Date: September 9, 2024; Filing Authority: 39 U.S.C. 3642, 39 CFR 3040.130 through 3040.135, and 39 CFR 3035.105; Public Representative: Alain Brou; Comments Due: September 17, 2024.

3. Docket No(s).: MC2024-629 and CP2024-638; Filing Title: USPS Request to Add Priority Mail Express, Priority Mail & USPS Ground Advantage Contract 305 to Competitive Product List and Notice of Filing Materials Under Seal; Filing Acceptance Date: September 9, 2024; Filing Authority: 39 U.S.C. 3642, 39 CFR 3040.130 through 3040.135, and 39 CFR 3035.105; Public Representative: Alain Brou; Comments Due: September 17, 2024.

4. Docket No(s).: MC2024-630 and CP2024-639; Filing Title: USPS Request to Add Priority Mail & USPS Ground Advantage Contract 333 to Competitive Product List and Notice of Filing Materials Under Seal; Filing Acceptance Date: September 9, 2024; Filing Authority: 39 U.S.C. 3642, 39 CFR 3040.130 through 3040.135, and 39 CFR 3035.105; Public Representative: Arif Hafiz; Comments Due: September 17, 2024.

5. Docket No(s).: MC2024-632 and CP2024-641; Filing Title: USPS Request to Add Priority Mail Express, Priority Mail & USPS Ground Advantage Contract 306 to Competitive Product List and Notice of Filing Materials Under Seal; Filing Acceptance Date: September 9, 2024; Filing Authority: 39 U.S.C. 3642, 39 CFR 3040.130 through 3040.135, and 39 CFR 3035.105; Public Representative: Gregory S. Stanton; Comments Due: September 17, 2024.

6. Docket No(s).: MC2024-633 and CP2024-642; Filing Title: USPS Request to Add Priority Mail & USPS Ground Advantage Contract 334 to Competitive Product List and Notice of Filing Materials Under Seal; Filing Acceptance Date: September 9, 2024; Filing Authority: 39 U.S.C. 3642, 39 CFR 3040.130 through 3040.135, and 39 CFR 3035.105; Public Representative: Gregory S. Stanton; Comments Due: September 17, 2024.

7. Docket No(s).: MC2024-634 and CP2024-643; Filing Title: USPS Request to Add Priority Mail Express, Priority Mail & USPS Ground Advantage Contract 307 to Competitive Product List and Notice of Filing Materials Under Seal; Filing Acceptance Date: September 9, 2024; Filing Authority: 39 U.S.C. 3642, 39 CFR 3040.130 through 3040.135, and 39 CFR 3035.105; Public Representative: Gregory S. Stanton; Comments Due: September 17, 2024.

8. Docket No(s).: MC2024-636 and CP2024-645; Filing Title: USPS Request to Add Priority Mail & USPS Ground Advantage Contract 335 to Competitive Product List and Notice of Filing Materials Under Seal; Filing Acceptance Date: September 9, 2024; Filing Authority: 39 U.S.C. 3642, 39 CFR 3040.130 through 3040.135, and 39 CFR 3035.105; Public Representative: Christopher C. Mohr; Comments Due: September 17, 2024.

9. Docket No(s).: MC2024-637 and CP2024-646; Filing Title: USPS Request to Add Priority Mail Express, Priority Mail & USPS Ground Advantage Contract 308 to Competitive Product List and Notice of Filing Materials Under Seal; Filing Acceptance Date: September 9, 2024; Filing Authority: 39 U.S.C. 3642, 39 CFR 3040.130 through 3040.135, and 39 CFR 3035.105; Public Representative: Christopher C. Mohr; Comments Due: September 17, 2024.

10. Docket No(s).: MC2024-638 and CP2024-647; Filing Title: USPS Request to Add Priority Mail & USPS Ground Advantage Contract 336 to Competitive Product List and Notice of Filing Materials Under Seal; Filing Acceptance Date: September 9, 2024; Filing Authority: 39 U.S.C. 3642, 39 CFR 3040.130 through 3040.135, and 39 CFR 3035.105; Public Representative: Kenneth R. Moeller; Comments Due: September 17, 2024.

11. Docket No(s).: MC2024-639 and CP2024-648; Filing Title: USPS Request to Add Priority Mail Express, Priority Mail & USPS Ground Advantage Contract 309 to Competitive Product List and Notice of Filing Materials Under Seal; Filing Acceptance Date: September 9, 2024; Filing Authority: 39 U.S.C. 3642, 39 CFR 3040.130 through 3040.135, and 39 CFR 3035.105; Public Representative: Kenneth R. Moeller; Comments Due: September 17, 2024.

12. Docket No(s).: MC2024-640 and CP2024-649; Filing Title: USPS Request to Add Priority Mail Express, Priority Mail & USPS Ground Advantage Contract 310 to Competitive Product List and Notice of Filing Materials Under Seal; Filing Acceptance Date: September 9, 2024; Filing Authority: 39 U.S.C. 3642, 39 CFR 3040.130 through 3040.135, and 39 CFR 3035.105; Public Representative: Arif Hafiz; Comments Due: September 17, 2024.

13. Docket No(s).: MC2024-641 and CP2024-650; Filing Title: USPS Request to Add Priority Mail & USPS Ground Advantage Contract 337 to Competitive Product List and Notice of Filing Materials Under Seal; Filing Acceptance Date: September 9, 2024; Filing Authority: 39 U.S.C. 3642, 39 CFR 3040.130 through 3040.135, and 39 CFR 3035.105; Public Representative: Christopher C. Mohr; Comments Due: September 17, 2024.

14. Docket No(s).: MC2024-642 and CP2024-651; Filing Title: USPS Request to Add Priority Mail & USPS Ground Advantage Contract 338 to Competitive Product List and Notice of Filing Materials Under Seal; Filing Acceptance Date: September 9, 2024; Filing Authority: 39 U.S.C. 3642, 39 CFR 3040.130 through 3040.135, and 39 CFR 3035.105; Public Representative: Alain Brou; Comments Due: September 17, 2024.

15. Docket No(s).: MC2024-643 and CP2024-652; Filing Title: USPS Request to Add Priority Mail Express, Priority Mail & USPS Ground Advantage Contract 311 to Competitive Product List and Notice of Filing Materials Under Seal; Filing Acceptance Date: September 9, 2024; Filing Authority: 39 U.S.C. 3642, 39 CFR 3040.130 through 3040.135, and 39 CFR 3035.105; Public Representative: Kenneth R. Moeller; Comments Due: September 17, 2024.

16. Docket No(s).: MC2024-644 and CP2024-653; Filing Title: USPS Request to Add Priority Mail Express, Priority Mail & USPS Ground Advantage Contract 312 to Competitive Product List and Notice of Filing Materials Under Seal; Filing Acceptance Date: September 9, 2024; Filing Authority: 39 U.S.C. 3642, 39 CFR 3040.130 through 3040.135, and 39 CFR 3035.105; Public Representative: Kenneth R. Moeller; Comments Due: September 17, 2024.

17. Docket No(s).: MC2024-645 and CP2024-654; Filing Title: USPS Request to Add Priority Mail Express, Priority Mail & USPS Ground Advantage Contract 313 to Competitive Product List and Notice of Filing Materials Under Seal; Filing Acceptance Date: September 9, 2024; Filing Authority: 39 U.S.C. 3642, 39 CFR 3040.130 through 3040.135, and 39 CFR 3035.105; Public Representative: Kenneth R. Moeller; Comments Due: September 17, 2024.

18. Docket No(s).: MC2024-646 and CP2024-655; Filing Title: USPS Request to Add Priority Mail & USPS Ground Advantage Contract 339 to Competitive Product List and Notice of Filing Materials Under Seal; Filing Acceptance Date: September 9, 2024; Filing Authority: 39 U.S.C. 3642, 39 CFR 3040.130 through 3040.135, and 39 CFR 3035.105; Public Representative: Gregory S. Stanton; Comments Due: September 17, 2024.

19. Docket No(s).: MC2024-647 and CP2024-656; Filing Title: USPS Request to Add Priority Mail Express, Priority Mail & USPS Ground Advantage Contract 314 to Competitive Product List and Notice of Filing Materials Under Seal; Filing Acceptance Date: September 9, 2024; Filing Authority: 39 U.S.C. 3642, 39 CFR 3040.130 through 3040.135, and 39 CFR 3035.105; Public Representative: Arif Hafiz; Comments Due: September 17, 2024.

20. Docket No(s).: MC2024-648 and CP2024-657; Filing Title: USPS Request to Add Priority Mail Express, Priority Mail & USPS Ground Advantage Contract 315 to Competitive Product List and Notice of Filing Materials Under Seal; Filing Acceptance Date: September 9, 2024; Filing Authority: 39 U.S.C. 3642, 39 CFR 3040.130 through 3040.135, and 39 CFR 3035.105; Public Representative: Kenneth R. Moeller; Comments Due: September 17, 2024.

This Notice will be published in the Federal Register.

Erica A. Barker,
Secretary.

[FR Doc. 2024-20922 Filed 9-13-24; 8:45 am]

BILLING CODE 7710-FW-P